DEPARTMENT OF COMMERCE

National Oceanic and Atmospheric Administration

[RTID 0648-XE050]

Conservation Plan for the Eastern Pacific Stock of Northern Fur Seal (Laaquda)

AGENCY: National Marine Fisheries Service (NMFS), National Oceanic and Atmospheric Administration (NOAA), Commerce.

ACTION: Notice of availability.

SUMMARY: In accordance with the Marine Mammal Protection Act (MMPA), NMFS has finalized the Conservation Plan for the Eastern Pacific Stock of Northern Fur Seal (Laaquda) based on public comments received. The goal of the Conservation Plan is to conserve and restore the stock to its optimum sustainable population. The Final Conservation Plan (Plan) for this stock is now available.

ADDRESSES: Electronic copies of the Plan are available at the NMFS Alaska Region website: https://www.fisheries.noaa.gov/species/northern-fur-seal#conservation-management.

FOR FURTHER INFORMATION CONTACT: Michael Williams, NMFS Alaska Region, 907-271-5117, michael.williams@noaa.gov.

SUPPLEMENTARY INFORMATION:

Background

The Eastern Pacific (formerly Pribilof) stock of northern fur seals was designated as depleted under the MMPA on June 17, 1988, because the population had declined by over 50 percent from the highest population levels estimated in the 1950s (53 FR 17888, May 18, 1988). Consistent with the MMPA (16 U.S.C. 1383b(b)), NMFS developed a Conservation Plan to conserve and restore the stock to its optimum sustainable population, which is defined as a population size within a range of population sizes from the largest supportable within the ecosystem (i.e., carrying capacity) to a level that results in maximum net productivity (50 CFR 216.3). NMFS first published a Conservation Plan in 1993, followed by a revised version in 2007. In 2023, NMFS published a revised draft Conservation Plan and invited public comment (88 FR 38010, June 12, 2023).

The 2024 revised Conservation Plan includes updated knowledge of threats, trends, and ecology of the Eastern Pacific stock of northern fur seals. Specifically, it summarizes advances in our understanding of pup production, pup mortality, pup mass, diet estimation, diving characterization, and use of Bering Sea marine foraging areas and foraging trip duration by the five rookery complexes on the Pribilof Islands. The Plan discusses critical information gaps, conservation actions and initiatives completed since the 2007 Conservation Plan as well as those that are ongoing or should be prioritized in future, and research and management actions intended to promote the conservation and restoration of the stock. The shared resources and cooperative involvement of Federal, State, and Tribal governments, Alaska Native people and Alaska Native Organizations, industry, academia, and non-governmental organizations will be needed throughout the period necessary to restore the stock.

Overall, the stock has continued to decline about 2 percent per year since the depleted designation, and differences exist in trends in abundance and habitat use for St. Paul, St. George, and Bogoslof islands and their associated rookery complexes. Preliminary estimates of age class survival rates since 2010 are similar for both St. Paul and St. George islands; however, since trends in abundance are significantly different (i.e., declining on St. Paul and increasing on St. George) our assumptions regarding site fidelity, emigration, and detection appear biased, and we are investigating whether rates of emigration are higher than previously assumed. Improved estimates of fur seal consumption of commercially important prey like pollock, and age-specific growth and bioenergetics of northern fur seals have increased the ability of ecosystem models to improve our understanding of fur seal population dynamics and how changes in prey abundance and distribution may be affecting population trends. Based on these recent model results, it is estimated that the northern fur seal population is one of the top four natural predators of pollock biomass and consumes both 0-2 year old and 3+ year old pollock. The new information presented regarding the separation of marine foraging habitat in the Bering Sea by fur seals and the differential consumption of pollock, squid, and other species based on this separation suggests there are opportunities to further investigate the indirect effects of fisheries on northern fur seals from the five rookery complexes identified on the Pribilof Islands. The extent of competition with the pollock fisheries is uncertain due to the spatial segregation of foraging fur seals among the five rookery complexes and in-season changes in the distribution of various segments of the commercial pollock fleet. NMFS intends to work with other interested parties to evaluate existing northern fur seal foraging and life history data as well as existing information on fisheries to assess observed variation in population trends among foraging complexes and guide decisions about new research related to the indirect effects of fishing. New ecosystem models are being developed to advance ecosystem-based fisheries management and are expected to include consumption of important commercial fish species by northern fur seals.

Another notable revision to this Plan is the reflection of recent subsistence use regulation changes and the evolution of co-management relationships between NMFS and Tribes in the Pribilofs. The Plan revision includes valuable input and contributions from the Aleut Community of St. Paul Island, and recognizes Unanga contributions to management and research. As fur seal subsistence use is paramount to Pribilovian Unanga cultural identity, Unangam tunuu (i.e., Aleut language) words have been incorporated into the Plan.

The Notice of Availability of the draft revised Plan was published on June 12, 2023, and the public comment period closed on August 11, 2023 (88 FR 38010). Six public comment letters containing 28 unique substantive comments were received during the comment period, on the topics of direct fishery effects, indirect fishery effects, ecology and life history, Indigenous Knowledge, co-management, optimum sustainable population, disturbance, funding, threats, and effectiveness of the Conservation Plan. In response to these comments, the final version of the Plan contains many clarifications, and significant revisions were made to the indirect fishery effects and optimum sustainable population sections. Also in response to these comments, additional information has been incorporated regarding migration patterns, pup mortality, vital rates, pup health, and foraging trip duration. Finally, a new appendix containing migration and performance measure analyses has been added. A summary of substantive comments and responses to those comments, including whether and how the draft Conservation Plan was revised in response, has been created and is on file with the NMFS Alaska Region, Protected Resources Division.

Kimberly Damon-Randall,
Director, Office of Protected Resources, National Marine Fisheries Service.

[FR Doc. 2024-25969 Filed 11-7-24; 8:45 am]

BILLING CODE 3510-22-P